DEPARTMENT OF HOMELAND SECURITY

Coast Guard

[Docket No. USCG-2011-1106]

Mobile Offshore Drilling Unit Guidance Policy

AGENCY: Coast Guard, DHS.

ACTION: Notice of availability, request for comments and public meeting.

SUMMARY: The Coast Guard announces the availability of a draft policy letter entitled, “Dynamically Positioned Mobile Offshore Drilling Unit (MODU) Critical Systems, Personnel and Training.” We request your comments on this draft guidance.

DATES: Comments and related material must either be submitted to our online docket via http://www.regulations.gov on or before January 30, 2012 or reach the Docket Management Facility by that date.

ADDRESSES: You may submit comments identified by docket number USCG-2011-1106 using any one of the following methods:

(1) Federal eRulemaking Portal: http://www.regulations.gov.

(2) Fax: (202) 493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is (202) 366-9329.

To avoid duplication, please use only one of these four methods. See the “Public Participation and Request for Comments” portion of the SUPPLEMENTARY INFORMATION section below for instructions on submitting comments.

FOR FURTHER INFORMATION CONTACT: If you have questions on this notice, call or email Commander Joshua D. Reynolds, Chief, Office of Design and Engineering Standards, Human Element and Ship Design Division (CG-5211), United States Coast Guard; telephone (202) 372-1355, email Joshua.D.Reynolds@uscg.mil. If you have questions on viewing or submitting material to the docket, call Renee V. Wright, Program Manager, Docket Operations, telephone (202) 366-9826.

SUPPLEMENTARY INFORMATION:

Public Participation, Request for Comments, and Public Meeting

We encourage you to submit comments and related material on the draft MODU policy letter. All comments received will be posted, without change, to http://www.regulations.gov and will include any personal information you have provided. Comments will be accepted until January 30, 2012. There will be a public meeting to discuss comments to the draft policy letter on February 9, 2012 at USCG Headquarters, 2100 2nd Street SW., Washington, DC 20593, Room 2500 at 1300.

Submitting comments: If you submit a comment, please include the docket number for this notice (USCG-2011-1106) and provide a reason for each suggestion or recommendation. You may submit your comments and material online, or by fax, mail or hand delivery, but please use only one of these means. We recommend that you include your name and a mailing address, an email address, or a telephone number in the body of your document so that we can contact you if we have questions regarding your submission.

To submit your comment online, go to http://www.regulations.gov, click on the “submit a comment” box, which will then become highlighted in blue. In the “Document Type” drop down menu select “Notices” and insert “USCG-2011-1106” in the “Keyword” box. Click “Search” then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments and supplemental material: To view the comments and any supplemental material, go to http://www.regulations.gov, click on the “read comments” box, which will then become highlighted in blue. In the “Keyword” box insert “USCG-2011-1106” and click “Search.” Click the “Open Docket Folder” in the “Actions” column. If you do not have access to the internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Background and Purpose

Dynamic Positioning Systems (DPSs), Emergency Disconnect Systems (EDSs), Blowout Preventers (BOPs) and related training and emergency procedures are critical to the safety of a MODU actively engaged in drilling. Operators, technicians, and inspectors should view these integrated systems holistically, but the myriad requirements imposed by multiple oversight entities makes this exceedingly difficult. For example, these systems are subject to international guidelines, Coast Guard and Bureau of Safety and Environmental Enforcement (BSEE) regulations, industry standards and Flag State requirements. The draft policy letter (available in the docket for this notice) would give guidance on how to witness inspection and tests of these critical systems by industry and BSEE in a holistic way using the various requirements, standards and guidelines. It would encourage Coast Guard Officer-in-charge of Marine Inspections (“OCMI”), at the invitation of BSEE, operator or MODU contractor, to witness drills and equipment tests of these systems during a joint visit with BSEE when a MODU is not drilling, typically when the MODU arrives at a new well location. The policy letter would encourage OCMIs to establish early communication with the operator, MODU contractor, and BSEE in order to prevent any delay in oil exploration. This policy letter represents a preliminary effort to better understand how industry conducts these tests, enhance communication and coordination with BSEE, inform future rulemaking, and investigate how oversight of these critical systems and training could be incorporated into future inspection policy.

The guidance contained in the draft policy letter is not a substitute for applicable legal requirements, nor is it itself a rule. If finalized, it would provide operational guidance for Coast Guard personnel. It is not the Coast Guard's intent to impose legally binding requirements on any party outside the Coast Guard through this policy letter. The policy letter would represent the Coast Guard's current thinking on this topic and could assist industry, mariners, the general public, and the Coast Guard, as well as other Federal and state regulators, in applying statutory and regulatory requirements.

Authority

This notice is issued under the authority of 5 U.S.C. 552(a) and 33 CFR 1.05-1.

Dated: December 23, 2011.
J.G. Lantz,
Director, Commercial Regulations and Standards for Marine Safety, Security, and Stewardship, United States Coast Guard.

[FR Doc. 2011-33501 Filed 12-28-11; 8:45 am]

BILLING CODE 9110-04-P